DEPARTMENT OF COMMERCE

International Trade Administration

Advance Notification of Sunset Review; Correction

AGENCY: Enforcement and Compliance, International Trade Administration, Department of Commerce.

Background: On June 1, 2018, the Department of Commerce (Commerce) published the July 2018 Advance Sunset Review Notice,¹ in which Commerce inadvertently listed the initiation of Lemon Juice from Argentina (A-357-818) for July 2018. The sunset review of Lemon Juice from Argentina is not scheduled to be initiated in July 2018; the error was based on a former suspension agreement, which was superseded by a new agreement on October 26, 2016.² This notice serves to correct the July 2018 Advance Sunset Review Notice. There will be no sunset reviews initiated in July 2018, because Lemon Juice from Argentina was the only case for which a sunset review was scheduled.

¹ See Antidumping or Countervailing Duty Order, Finding, or Suspended Investigation; Advance Notification of Sunset Review, 83 FR 25436 (June 1, 2018) (July 2018 Advance Sunset Review Notice).

² See Lemon Juice from Argentina: Continuation of Suspension of Antidumping Investigation, 81 FR 74395 (October 26, 2016).

DATES: Applicable (June 1, 2018).

FOR FURTHER INFORMATION CONTACT: Brenda E. Brown, Office of AD/CVD Operations, Customs and Liaison Unit, Enforcement and Compliance, International Trade Administration, U.S. Department of Commerce, 1401 Constitution Avenue NW, Washington, DC 20230; telephone: (202) 482-4735.

This correction notice of initiation is being published in accordance with section 751(c) of the Act and 19 CFR 351.218 (c).

Dated: June 20, 2018.
James Maeder,
Associate Deputy Assistant Secretary for Antidumping and Countervailing Duty Operations performing the duties of Deputy Assistant Secretary for Antidumping and Countervailing Duty Operations.

[FR Doc. 2018-13541 Filed 6-22-18; 8:45 am]

BILLING CODE 3510-DS-P